FEDERAL COMMUNICATIONS COMMISSION

[OMB 3060-1281; FR ID 183731]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before January 8, 2024. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-1281.

Title: 3.7 GHz Service Licensee and Earth Station Operator Agreements; 3.7 GHz Service Licensee Engineering Analysis.

Form No.: N/A.

Type of Review: Extension of a currently approved collection.

Respondents: Business or other for-profit entities; not-for-profit institutions; State, Local or Tribal Government.

Number of Respondents and Responses: 30 respondents and 30 responses.

Estimated Time per Response: 2 hours-5 hours.

Frequency of Response: Recordkeeping requirement; on occasion reporting requirement; third party disclosure requirement.

Obligation to Respond: Required to obtain or retain benefits. The statutory authority for this collection of information is contained in sections 1, 2, 4(i), 4(j), 5(c), 201, 302, 303, 304, 307(e), 309, and 316 of the Communications Act of 1934, as amended, 47 U.S.C. 151, 152, 154(i), 154(j), 155(c), 201, 302, 303, 304, 307(e), 309, and 316.

Total Annual Burden: 120 hours.

Annual Cost Burden: No cost.

Needs and Uses: Under this new information collection, the Commission will collect information that will be used to ensure that 3.7-4.2 GHz band stakeholders adopt practices to ensure the effective and efficient use of the band in a manner that protects incumbent C-band operations. This collection will support the efficient and expeditious clearing of the lower portion of the band while minimizing the risk of harmful interference to incumbent operations. This information collection must be renewed as the C-band transition relocation process is still underway.

The transition relocation process began in 2020. Initial Transition Plans were filed on June 19, 2020 with final Transition Plans due August 14, 2020. Throughout this process, the Wireless Telecommunications Bureau (Bureau) opened limited windows to amend their Transition Plans on several occasions. In addition to submitting and modifying Transition Plans during these periods, eligible space station operators were required to file quarterly status reports with the Commission beginning on December 31, 2020 to demonstrate their efforts to ensure a timely transition.

On May 15, 2023, the Bureau announced procedures for filing C-band Phase II Certifications of Accelerated Relocation and implementation of the Commission's incremental reduction plan for Phase II Accelerated Relocation Payments as part of the ongoing transition. The C-Band Relocation Payment Clearinghouse (RPC) is responsible for disbursing the Accelerated Relocation Payments within a certain time period. On June 1, 2023, space station operators began submitting their Phase II certifications. Also on June 1, 2023, the Bureau opened a limited, final window for eligible space station operators to file modified Transition Plans to accurately account for any updates since the last filing window in 2021.

Phase II's deadline to complete the transition of space station operations to the upper 200 megahertz of the band was originally set for December 5, 2023. Instead, on August 10, 2023, the last of the Phase II Certifications was deemed granted. Even though Phases I and II of the satellite transition are complete, the Commission continues to work through the C-band relocation process. Most recently, on October 13, 2023, the Bureau released a Public Notice seeking comment on proposed deadlines for claimants to submit reimbursement claims. The Public Notice stated that the RPC's operations are currently scheduled to conclude on June 30, 2025, which is still more than a year and a half away. The relocation of the fixed service licensees is also ongoing.

As mentioned in the initial request for this information collection, it is important to continue to collect information to promote safety of operations in the band and guarantee access to important coordination and technical aspects of the transition. Because this process remains ongoing, this information collection should be renewed to ensure that a complete set of information is maintained for stakeholders to understand coordination measures necessary to protect band operations. If this collection were to expire now, stakeholders would be missing ongoing information about the transition process. Renewing this collection will provide stakeholders with complete information instead of an information collection that ends before the entire transition process is officially accomplished in 2025.

The Commission now seeks approval for renewal of its currently approved collection of information under OMB Control Number 3060-1281. While the majority of the collection required one-time filings that are already complete, there is an ongoing requirement that 3.7 GHz Service Licensees maintain a copy of private agreements to modify any earth station operations in the 4000-4200 MHz in their station files.

Federal Communications Commission.
Marlene Dortch,
Secretary, Office of the Secretary.

[FR Doc. 2023-24646 Filed 11-7-23; 8:45 am]

BILLING CODE P